EXPORT-IMPORT BANK

[Public Notice 2013-0037]

Application for Final Commitment for a Long-Term Loan or Financial Guarantee in Excess of $100 Million: AP086036XX

AGENCY: Export-Import Bank of the United States.

ACTION: Notice.

SUMMARY: This Notice is to inform the public, in accordance with Section 3(c)(10) of the Charter of the Export-Import Bank of the United States (“Ex-Im Bank”), that Ex-Im Bank has received an application for final commitment for a long-term loan or financial guarantee in excess of $100 million (as calculated in accordance with Section 3(c)(10) of the Charter). Comments received within the comment period specified below will be presented to the Ex-Im Bank Board of Directors prior to final action on this transaction.

Reference: AP086036XX.

Purpose and Use:

Brief description of the purpose of the transaction: To support the export of U.S. manufactured semiconductor manufacturing equipment to Singapore.

Brief non-proprietary description of the anticipated use of the items being exported: Equipment supports the manufacture of NAND flash semiconductors.

To the extent that Ex-Im Bank is reasonably aware, the item(s) being exported may be used to produce exports or provide services in competition with the exportation of goods or provision of services by a United States industry.

Parties:

Principal Supplier: Applied Materials, Inc., Lam Research Corp.

Obligor: Micron Semiconductor Asia Pte. Ltd.

Guarantor(s): Micron Technology, Inc.

Description Of Items Being Exported: Various semiconductor manufacturing equipment manufactured by Applied Materials, Inc., Axcelis Technologies, Inc. and Lam Research Corp.

Information On Decision: Information on the final decision for this transaction will be available in the “Summary Minutes of Meetings of Board of Directors” on http://exim.gov/newsandevents/boardmeetings/board/.

Confidential Information: Please note that this notice does not include confidential or proprietary business information; information which, if disclosed, would violate the Trade Secrets Act; or information which would jeopardize jobs in the United States by supplying information that competitors could use to compete with companies in the United States.

DATES: Comments must be received on or before August 12, 2013 to be assured of consideration before final consideration of the transaction by the Board of Directors of Ex-Im Bank.

ADDRESSES: Comments may be submitted through Regulations.gov at www.regulations.gov. To submit a comment, enter EIB-2013-0037 under the heading “Enter Keyword or ID” and select Search. Follow the instructions provided at the Submit a Comment screen. Please include your name, company name (if any) and EIB-2013-0037 on any attached document.

Cristopolis A. Dieguez,
Program Specialist, Office of the General Counsel.

[FR Doc. 2013-17111 Filed 7-16-13; 8:45 am]

BILLING CODE 6690-01-P